DEPARTMENT OF ENERGY

Federal Energy Regulatory Commission

[Docket No. CP16-478-000]

Gulf South Pipeline Company, LP; Notice of Schedule for Environmental Review of the St. Charles Parish Expansion Project

On July 11, 2016, Gulf South Pipeline Company, LP (Gulf South) filed an application in Docket No. CP16-478-000 requesting a Certificate of Public Convenience and Necessity pursuant to section 7(c) of the Natural Gas Act to construct and operate certain natural gas pipeline facilities. The proposed project is known as the St. Charles Parish Expansion (Project), and involves the construction and operation of natural gas pipeline and compression facilities by Gulf South in St. Charles and St. John the Baptist Parishes, Louisiana.

On July 18, 2016, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—March 3, 2017

90-day Federal Authorization Decision Deadline—June 1, 2017

If a schedule change becomes necessary, additional notice will be provided so that the relevant agencies are kept informed of the Project's progress.

Project Description

The Project purpose is to provide 133,333 dekatherms per day to serve Entergy Louisiana, LLC's proposed natural gas-fired power plant facility located near Montz, Louisiana. Gulf South proposes to construct a new 5,000 horsepower compressor station near Montz, Louisiana (Montz Compressor Station), about 900 feet of new 16-inch-diameter pipeline, and auxiliary facilities.

The proposed Montz Compressor Station would be on the border of St. Charles and St. John the Baptist Parishes. Gulf South plans to begin construction of the Project in the fall of 2017 and place the facilities in-service by September 1, 2018.

Background

On August 24, 2016, the Commission issued a Notice of Intent to Prepare an Environmental Assessment for the Proposed St. Charles Parish Expansion Project and Request for Comments on Environmental Issues (NOI). The NOI was sent to affected landowners; federal, state, and local government agencies; elected officials; environmental and public interest groups; Native American tribes; other interested parties; and local libraries and newspapers. In response to the NOI, the Commission received comments from the U.S. Environmental Protection Agency and the Choctaw Nation of Oklahoma. The primary issues raised by the commentors are air quality, impacts on wetlands, tribal coordination, the availability of cultural surveys, and environmental justice impacts.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP16-478), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: December 30, 2016.
Kimberly D. Bose,
Secretary.

[FR Doc. 2017-00069 Filed 1-6-17; 8:45 am]

BILLING CODE 6717-01-P